DEPARTMENT OF HOMELAND SECURITY

U.S. Customs and Border Protection

Approval of Altol Petroleum Products Services, Inc. (Ponce, PR) as a Commercial Gauger

AGENCY: U.S. Customs and Border Protection, Department of Homeland Security.

ACTION: Notice of approval of Altol Petroleum Products Services Inc. (Ponce, PR), as a commercial gauger.

SUMMARY: Notice is hereby given, pursuant to CBP regulations, that Altol Petroleum Products Services Inc. (Ponce, PR), has been approved to gauge petroleum and certain petroleum products for customs purposes for the next three years as of September 5, 2024.

DATES: Altol Petroleum Products Services Inc. (Ponce, PR) was approved, as a commercial gauger as of September 5, 2024. The next triennial inspection date will be scheduled for September 2027.

FOR FURTHER INFORMATION CONTACT: Robert P. Munivez, Laboratories and Scientific Services Directorate, U.S. Customs and Border Protection, 4150 Interwood South Parkway, Houston, TX 77032, tel. 281-560-2937.

SUPPLEMENTARY INFORMATION: Notice is hereby given pursuant to 19 CFR 151.13, that Altol Petroleum Products Services Inc., 228 Sabanetas Industrial Park, Ponce, PR 00716 has been approved to gauge petroleum and certain petroleum products for customs purposes, in accordance with the provisions of 19 CFR 151.13.

Altol Petroleum Products Services Inc. (Ponce, PR) is approved for the following gauging procedures for petroleum and certain petroleum products from the American Petroleum Institute (API):

API Chapters | Title
3 | Tank Gauging.
7 | Temperature Determination.
8 | Sampling.
11 | Physical Properties Data.
12 | Calculations.
17 | Marine Measurement.

Anyone wishing to employ this entity to conduct gauger services should request and receive written assurances from the entity that it is approved by the U.S. Customs and Border Protection to conduct the specific gauger service requested. Alternatively, inquiries regarding the specific gauger service this entity is approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Aine M. Ramirez,
Laboratory Director, Houston, Laboratories and Scientific Services Directorate.

[FR Doc. 2025-24085 Filed 12-30-25; 8:45 am]

BILLING CODE 9111-14-P